DEPARTMENT OF ENERGY

Federal Energy Regulatory Commission

18 CFR Part 390

[Docket No. RM02-10-000]

Electronic Registration

February 11, 2003.

AGENCY: Federal Energy Regulatory Commission.

ACTION: Final Rule: Notice of Suspension.

SUMMARY: The Federal Energy Regulatory Commission is suspending the requirement that users of its online applications register electronically. On December 20, 2002, the Commission issued an order extending the requirement's effective date from the original effective date of January 7, 2003. Through inadvertence, that order was not published in the Federal Register until January 15, 2003. The Commission is issuing this order, which is identical in substance to the December 20 order, for the sake of clarity.

DATES: 18 CFR 390.1, published on August 12, 2002 (67 FR 52410) is suspended as of January 7, 2003.

FOR FURTHER INFORMATION CONTACT:

Christopher Cook (information technology advisor), Office of the Chief Information Officer, Federal Energy Regulatory Commission, 888 First Street, NE., Washington, DC 20426, (202) 502-8102.

Wilbur Miller (legal advisor), Office of General Counsel, Federal Energy Regulatory Commission, 888 First Street, NE., Washington, DC 20426, (202) 502-8953.

SUPPLEMENTARY INFORMATION:

Notice of Suspension of Effective Date of Electronic Registration

1. On August 5, 2002, the Commission issued Order No. 891, establishing a system of electronic registration to act as a gateway to its online services.¹ The eRegistration system will allow users to input identifying information only once as a precursor to using services such as electronic filing, electronic subscription, or electronic service. The registration system has been available on the Commission's Web site, http://www.ferc.gov, since September as a voluntary system. Order No. 891 provided that eRegistration would become mandatory on January 7, 2003.²

¹ See 18 CFR part 390 (2001).

² FERC Stats. & Regs. ¶ 31,132, at p. 30,195 (2002), codifying requirement at 18 CFR 390.1.

2. Currently, eRegistration is not fully integrated with the online services with which it will operate, and this was expected to be the case on the original effective date. The Commission thus, on December 20, 2002, issued an order extending the effective date until adequate integration is achieved. 68 FR 1964 (Jan. 15, 2003.). The Commission stated that, once the system is ready, the Secretary of the Commission will issue a notice of the time when the eRegistration requirement will become effective. In the interim, eRegistration may be a prerequisite for the use of some informational services, such as electronic subscription.

3. Through inadvertence, the Commission's order of December 20, 2002, was not published in the Federal Register until January 15, 2003. 68 FR 1964. For the sake of clarity, the Commission in this order will suspend the effectiveness of eRegistration on the same terms as announced in the December 20 order.

The Commission Orders

18 CFR 390.1 is suspended until the new effective date is announced by the Secretary, in a document published in the Federal Register.

By the direction of the Commission.
Magalie R. Salas,
Secretary.

[FR Doc. 03-3740 Filed 2-13-03; 8:45 am]

BILLING CODE 6717-01-P